DEPARTMENT OF ENERGY

Federal Energy Regulatory Commission

Notice of Application for Land Conveyance and Change in Project Boundary and Soliciting Comments, Motions To Intervene, and Protests

September 25, 2003.

Take notice that the following application has been filed with the Commission and is available for public inspection:

a. Application Type: Amendment to remove project lands from the project boundary.

b. Project No.: 1953-069.

c. Date Filed: September 9, 2003.

d. Applicant: Consolidated Water Power Company

e. Name of Project: DuBay Hydroelectric Project

f. Location: The project is located on the Wisconsin River, in Portage, Marathon, and Wood Counties, Wisconsin. According to the license the project does not utilize federal or tribal lands.

g. Filed Pursuant to: Federal Power Act, 16 U.S.C. 791(a)-825(r) and 799 and 801.

h. Applicant Contact: Mr. Mark Anderson, Consolidated Water Power Company, P.O. Box 8050, Wisconsin Rapids, Wisconsin 54495-8050. (715) 422-3927.

i. FERC Contact: Any questions on this notice should be addressed to Jean Potvin, jean.potvin@ferc.gov , or (202) 502-8928.

j. Deadline for filing comments and or motions: October 27, 2003.

All documents (original and eight copies) should be filed with: Ms. Magalie R. Salas, Secretary, Federal Energy Regulatory Commission, 888 First Street, NE., Washington, DC 20426. Please include the project number (P-1953-069) on any comments or motions filed. Comments, protests and interventions may be filed electronically via the internet in lieu of paper. See 18 CFR 385.2001(a)(1)(iii) and the instructions on the Commission's Web site at http://www.ferc.gov under the “e-Filing” link. The Commission strongly encourages e-filings.

k. Description of Proposal: This proposal includes the conveyance of 2,804 acres of DuBay Project lands to the Wisconsin Department of Natural Resources and removal of the lands from the project boundary. The lands removed from the project boundary would be added to the existing Mead Wildlife Area.

l. Locations of the Application: The filing is available for review at the Commission's Public Reference Room, at 888 First Street, NE., Room 2A, Washington, DC 20426, or may be viewed on the Commission's Web site at http://www.ferc.gov using the “eLibrary” link. Enter the docket number excluding the last three digits in the docket number field to access the document. For assistance, please call the Helpline at (866) 208-3676 or contact FERCOnlineSupport@ferc.gov. For TTY, contact (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

Linda Mitry,
Acting Secretary.

[FR Doc. 03-24884 Filed 10-1-03; 8:45 am]

BILLING CODE 6717-01-P